DEPARTMENT OF COMMERCE

National Oceanic and Atmospheric Administration

[RTID 0648-XF135]

Determination of Overfishing or an Overfished Condition

AGENCY: National Marine Fisheries Service (NMFS), National Oceanic and Atmospheric Administration (NOAA), Commerce.

ACTION: Notice.

SUMMARY: This action serves as a notice that NMFS, on behalf of the Secretary of Commerce (Secretary), has found that Atlantic herring continues to be overfished; the West Coast Klamath River fall-run Chinook salmon stock continues to be overfished; and the northern subpopulation of Pacific Sardine is now overfished. NMFS, on behalf of the Secretary, is required to provide this notice whenever it determines that a stock or stock complex is subject to overfishing, overfished, or approaching an overfished condition.

FOR FURTHER INFORMATION CONTACT: Evelyn Strombom, (301) 427-8633.

SUPPLEMENTARY INFORMATION: Pursuant to section 304(e)(2) of the Magnuson-Stevens Fishery Conservation and Management Act, 16 U.S.C. 1854(e)(2), NMFS, on behalf of the Secretary, must notify councils, and publish a notice in the Federal Register, whenever it determines that a stock or stock complex is subject to overfishing, overfished, or approaching an overfished condition.

NMFS has determined that Atlantic herring continues to be overfished. This determination is based on the most recent assessment, completed in 2024 using data through 2023, that found the spawning stock biomass is less than the minimum stock size threshold (MSST), which supports the determination that the stock remains overfished. NMFS continues to work with the New England Fishery Management Council to rebuild this stock.

NMFS has determined that the West Coast Klamath River fall-run Chinook salmon stock continues to be overfished. This determination is based on the most recent assessment, completed in 2025 using data from 2022-2024, that found the 3-year geometric mean escapement is less than the MSST, which supports the determination that the stock remains overfished. NMFS continues to work with the Pacific Fishery Management Council to rebuild this stock.

NMFS has determined that the northern subpopulation of Pacific Sardine is again overfished. This determination is based on the most recent assessment, completed in 2025 using data through 2024, that found the age 1+ biomass is less than the MSST, which supports a determination that the stock is overfished. NMFS continues to work with the Pacific Fishery Management Council to rebuild this stock.

Dated: January 8, 2026.
Kelly Denit,
Director, Office of Sustainable Fisheries, National Marine Fisheries Service.

[FR Doc. 2026-00428 Filed 1-12-26; 8:45 am]

BILLING CODE 3510-22-P